DEPARTMENT OF VETERANS AFFAIRS

Funding Availability: Homeless Providers Grant and Per Diem Program

AGENCY: Department of Veterans Affairs (VA), Veterans Health Administration (VHA), VA Homeless Providers Grant and Per Diem (GPD) Program.

ACTION: Notice of Funding Availability (NOFA).

SUMMARY: VA is announcing the availability of per diem funds to currently operational GPD grantees which have their current transitional housing grants under VA's Homeless Providers GPD Program whose grants are scheduled to be terminated as discussed in an accompanying Federal Register notice. VA expects to fund 24 existing service centers and 12,000 beds with this NOFA for applicants who will operate service centers or use one or a combination of the following housing models: Bridge Housing, Low Demand, Respite Care, Clinical Treatment, and Service-Intensive Transitional Housing.

DATES: An original signed and dated application for assistance (plus two completed collated copies) for VA's Homeless Providers GPD Program and associated documents must be received by the GPD Program Office by 4:00 p.m. Eastern Standard Time on Tuesday, April 4, 2017 (see application requirements below).

ADDRESSES: Grant applications must be submitted to the following address: VA Homeless Providers GPD Program Office, 10770 N. 46th Street, Suite C-200, Tampa, Florida 33617.

FOR FURTHER INFORMATION CONTACT: Mr. Jeffery L. Quarles, Director, VA Homeless Providers GPD Program, Department of Veterans Affairs, 10770 N. 46th Street, Suite C-200, Tampa, FL 33617; (toll-free) 1-(877) 332-0334.

SUPPLEMENTARY INFORMATION:

Funding Opportunity Description

This NOFA announces the availability of per diem funding to currently operational GPD grantees that will have their current grants terminated as discussed in an accompanying Federal Register notice.

Under this NOFA, VA is only offering per diem for supportive transitional housing and service centers to applicants willing to use a model listed below. Applicants must apply for funding using one or more of these models, and a separate application is required for each model. Further, only currently operational VA GPD-funded service centers may apply under the service center model. Applicants agree to meet the applicable requirements of 38 CFR part 61. In addition, all applications using the service center and housing models need to have low barriers to access service as well as policies and procedures to work with Veterans who relapse. As such, admission criteria are strongly encouraged to not have any required sobriety period, income requirement, or employment requirement.

Housing Models/Service Center Descriptions

Bridge Housing

Targeted Population—Homeless Veterans that have been offered and accepted a permanent housing intervention (e.g., Supportive Services for Veterans Families (SSVF), Department of Housing and Urban Development-VA Supportive Housing (HUD-VASH), Housing Coalition/Continuum of Care (CoC)), but are not able to immediately enter the permanent housing.

Model Overview—Bridge housing is intended to be a short-term stay in transitional housing for Veterans with pre-identified permanent housing destinations.

Characteristics & Standards—Goals in the Individual Service Plan should be short-term with the focus on the move to permanent housing, rather than the completion of treatment goals.

Veterans are expected to receive case management and support, which should be coordinated with the HUD-VASH, SSVF, or other available community based programs. Grantees will assist Veterans with accessing services as needed/requested by the Veteran and must make available to participants a menu of available services.

Length of Stay (LOS) will be individually determined based on need, but in general, is not expected to exceed 90 days.

Admission Criteria—Veterans must have been offered and accepted a permanent housing intervention prior to admission or within the first 14 days of admission.

Required Minimum Performance Metrics/Targets—Discharge to permanent housing is 70 percent. Negative Exits target is less than 23 percent. Negative exits are defined as those exits from a GPD program for a violation of program rules, failure to comply with program requirements, or leaving the program without consulting staff.

Low Demand

Targeted Population—Chronically homeless Veterans who suffer from mental-health or substance-use problems, or who struggle with maintaining sobriety; and Veterans with multiple treatment failures that may have never received treatment services, or may have been unsuccessful in traditional housing programs. These Veterans may have not yet fully committed to sobriety and treatment.

Model Overview—Low-Demand housing is a program design using a low-demand/harm-reduction model to better accommodate chronically homeless Veterans, and Veterans who were unsuccessful in traditional treatment settings. Programming does not require sobriety or compliance with mental health treatment as a condition of admission or continued stay. Overall, demands are kept to a minimum; however, services are available as needed. The goal is to establish permanent housing in the community, while providing for the safety of staff and residents.

Characteristics & Standards—Project is small in size (typically, 20 beds or less);

Services must include case-management, substance-use, and mental-health treatment; and referrals for benefits are made available as Veterans engage;

Must provide the participant an orientation that sets the expectations of performance for the participant;

Must have 24/7, on-site staffing at the same location as the location of the program participant. (Use of resident managers is not allowed);

Must have a method to monitor participant and guests comings and goings;

Must have a system in place for the management of the introduction of contraband;

Must be willing to retain Veterans who commit minor infractions of rules and who cannot and/or will not stop drinking and/or using legal or illegal substances;

Must be committed to keeping the veterans housed and staying continuously engaged with each veteran and provide services as needed;

Must have procedures to ensure safety of staff and residents; and

The grantee agency must participate in bi-monthly calls and an annual fidelity assessment process as established by VA.

Required Minimum Performance Metrics/Targets—Discharge to permanent housing is 50 percent and negative exits less than 23 percent. Negative exits are defined as those exits from a GPD program for a violation of program rules, failure to comply with program requirements, or leaving the program without consulting staff.

Hospital to Housing (Respite Care)

Targeted Population—Homeless Veterans identified and evaluated in emergency departments and inpatient care settings for suitability for direct transfer to a designated GPD Program for transitional housing and supportive care.

Model Overview—Respite care is a medical model to address the housing and recuperative care needs of homeless Veterans who have been hospitalized.

Characteristics & Standards—Housing sites are expected to be in close proximity to the referring medical center, so that ongoing clinical care, including specialty care, can continue to be provided;

Have a post-discharge care plan as pre-requisite to program placement that addresses ongoing physical, mental health, substance use disorder, and social work needs as well as care-management plans to transition the Veteran to permanent housing upon clinical stabilization;

The VA Homeless Patient Aligned Care Team (H-PACT), or other appropriate care unit, will facilitate and coordinate the ongoing care needs upon transition;

A Memorandum of Understanding must be in place with the local medical center that details participation in the Hospital-to-Home (H2H) program. Included in this should be a detailing of acceptance criteria for Veterans being referred from local facility emergency departments and inpatient wards, a detailing of how follow-up care with the medical center is organized, and a commitment to engaging enrolled veterans in permanent housing as part of program objectives;

Registration of the program with the national H-PACT program office and full participation in program elements, including Veteran tracking, quality improvement, and community of practice elements; and

Active participation, communication, and client tracking with the national H-PACT/H2H program office.

Admission Criteria—Individual must be functional, be able to perform independent Activities of Daily Living (ADL); not require acute detox, has no apparent psychosis; and has a post-discharge plan coordinating care with the medical center (e.g., H-PACT Team, Mental Health, Substance Abuse, etc.).

Required Minimum Performance Metrics/Targets—Discharge to permanent housing is 65 percent and negative exits less than 23 percent. Negative exits are defined as those exits from a GPD program for a violation of program rules, failure to comply with program requirements, or leaving the program without consulting staff.

Clinical Treatment

Targeted Population—Homeless Veterans with a specific diagnosis related to a substance-use disorder and/or mental-health diagnosis; Veteran actively chooses to engage in clinical services.

Model Overview—Clinically focused treatment provided in conjunction with services effective in helping homeless Veterans secure permanent housing and increase income through benefits and/or employment.

Characteristics & Standards—Although the programming and services have a strong clinical focus, permanent housing and increased income are a required outcome of the program. Treatment programs must incorporate strategies to increase income and housing attainment services;

Individualized assessment, services, and treatment plan which are tailored to achieve optimal results in a time efficient manner and are consistent with sound clinical practice;

Program stays are to be individualized based upon the individual service plan for the veteran (not program driven);

Staff are to be licensed and/or credentialed for the substance-use disorder (SUD)/mental health (MH) services provided; and

Veterans are offered a variety of treatment service modalities (e.g., individual and group counseling/therapy, family support groups/family therapy, and psychoeducation).

Required Minimum Performance Metrics/Targets—Discharge to permanent housing is 65 percent; employment of individuals at discharge is 50 percent; and negative exits less than 23 percent. Negative exits are defined as those exits from a GPD program for a violation of program rules, failure to comply with program requirements, or leaving the program without consulting staff.

Service-Intensive Transitional Housing

Targeted Population—Homeless Veterans who choose a supportive transitional housing environment providing services prior to entering permanent housing.

Model Overview—Provides transitional housing and a milieu of services that facilitate individual stabilization and movement to permanent housing as rapidly as clinically appropriate.

Characteristics & Standards—Scope of services should incorporate tactics to increase the Veteran's income through employment and/or benefits and obtaining permanent housing. Services provided and strategies used by the applicant will vary based on the individualized needs of the Veteran and resources available in the community. Applicant specifies the staffing levels and range of services to be provided.

Required Minimum Performance Metrics/Targets—Discharge to permanent housing is 65 percent; employment of individuals at discharge is 50 percent; and negative exits are less than 23 percent.

Service Centers

Targeted Population—Homeless Veterans who are seeking assistance with obtaining housing, employment, medical care, or benefits.

Model Overview—Provides services and information to engage and aid homeless Veterans obtain housing and services.

Characteristics & Standards—Scope of services should incorporate tactics to engage and aid the Veteran. Services provided and strategies used by the applicant will vary based on the individualized needs of the Veteran and resources available in the community. Applicant specifies the staffing levels and range of services to be provided.

Eligibility Information: In order to be eligible, an applicant must be a current operational VA GPD Transitional Housing or Service Center grant recipient (that is the grantee of record) as of the publication date of this NOFA whose grant is scheduled to be terminated as discussed in an accompanying Federal Register notice with the following exception: for those GPD grants previously funded as collaborative projects that consist of multiple eligible entities funded under one project number, VA will treat under this NOFA each eligible entity as a separate potential applicant, and each may apply for its portion of the previously funded collaborative project to include; but not limited to: The site, number of beds, and services to be provided.

Transition in Place (TIP) and Special Need grants do not need to respond to this NOFA as their awards have established time limits and will be addressed under separate NOFAs.

Authority: Funding applied for under this NOFA is authorized by 38 U.S.C. 2011, 2012.

Award Information

Overview: This NOFA announces the availability of per diem funds to currently operational GPD grantees that will have their current transitional housing grants under VA's Homeless Providers GPD Program terminated as discussed in an accompanying Federal Register notice. VA expects to fund approximately 24 service centers and 12,000 beds with this NOFA. (See additional budget information in this NOFA for calculation of bed days of care.)

Cost Sharing or Matching: None.

Funding Period: Funding awarded under this NOFA will be for a period of 1year, beginning on October 1, 2017, and ending on September 30, 2018, with options for VA to offer two additional renewal periods dependent upon: fund availability, the recipient meeting the performance goals established in the grant agreement, statutory and regulatory requirements, and the results of the VA inspection.

Payment: Per diem will be paid in a method that is in accordance with VA and other Federal fiscal requirements. The per diem payment calculation may be found at 38 CFR 61.33. Awardees will be subject to requirements of this NOFA, GPD regulations, 2 CFR 200, and other Federal grant requirements. A full copy of the regulations governing the GPD Program is available at the GPD Web site at: http://www.va.gov/HOMELESS/GPD.asp.

Funding Priorities: VA will prioritize for funding one application for each of the following models: Bridge Housing, Low Demand, Clinical Treatment and Respite Care (Hospital to Home) at each VA Medical Center (VAMC) that has a working relationship with a GPD project. The highest scoring application for each of the four selected models, at each VAMC that are legally fundable will be conditionally selected for funding first. VA will then continue to conditionally select applications from the remaining applications in their ranked order until funding is no longer available or the number of beds has been reached, whichever comes first.

Application Review Information

A. Criteria for Grants: Rating criteria may be found at 38 CFR 61.13 & 61.32.

B. Review and Selection Process: Review and selection process may be found at 38 CFR 61.14.

Allocation of Funds: Funding will be awarded under this NOFA depending on funding availability and subject to program authorization. Funding will be for a period beginning on October 1, 2017, and ending on September 30, 2018, with an option for VA to offer two additional renewal periods.

Funding Actions: Conditionally selected applicants will be asked to submit additional information under 38 CFR 61.15, 61.32(c). Applicants will then be notified of the deadline to submit such information. If an applicant is unable to meet any conditions for the grant award within the specified time frame VA may non-select the applicant and uses the funding for another applicant. Should an applicant submitting multiple applications not have all of its applications funded, VA may negotiate bed numbers with the applicant at this time for those applications that were conditionally selected and incorporate that number into the grant agreement. Upon signature of the grant agreement by the Secretary or designated representative, final selection will be completed and the grant funds will be obligated for the funding period.

Grant Award Period: Applicants that are finally selected may expect the award to begin on October 1, 2017, and end on September 30, 2018, with two options to renew as stated in the funding period above. VA will make an initial award for the first year of operation. The application is submitted with a one-year budget. Continuation funding is not guaranteed. Factors to be considered in awarding continuation grants will include satisfactory performance, demonstrated capacity to manage the grant, compliance with grant requirements, agency priorities, and the availability of appropriated funds. VA reserves the right to adjust the amount of a grant or elect not to continue funding for subsequent years.

Funding Restrictions: No part of an award under this NOFA may be used to facilitate capital improvements or to purchase vans or real property. Questions regarding acceptability should be directed to VA's National GPD Program Office at the number listed in contact information. Applicants may not receive funding to replace funds provided by any Federal, state or local Government agency or program to assist homeless persons.

Applicants whose grants included capital grants must continue to use the same project site unless they receive prior written approval from the National GPD Program Office; this includes applicants who received a 2013 rehabilitation grant. Applicants will be limited in their request for beds to the number of combined beds authorized under your current relationship with a specific medical center under the GPD program. If applying for multiple models your agency may not request the total number of beds in each model application (See Examples 1-2).

Example 1: If your agency had two grant awards paid by the same medical center, and each had 15 beds, the total bed limit would be 30. If applying for multiple models, the 30 beds would have to be split between the different models and not exceed 30.

Example 2: If your agency had three grant awards, two paid by the same medical center, and one by a different medical center with each having 15 beds the total bed limit would be 30 beds for the medical center that paid the two awards, and the bed limit for the remaining medical center would be 15. If applying for multiple models, the total beds allowed for each medical center would have to be split.

Additional multiple models guidance may be found at Examples 3-6 under the Content and Form of Application section of this NOFA.

Flexibility of Beds: For those applicants that are successfully funded for multiple models under this NOFA, VA will allow without a change of scope, a flex of beds between the applicant's models at the same VAMC. This flex will be up to five (5) beds or 15 percent of the total awarded bed limit per medical center, whichever is greater. Successful applicants who seek a greater number of flex beds than what is allowed above must receive prior written approval from the National GPD Program Office.

Cost Sharing or Matching: None.

Application and Submission Information

Address to Obtain Grant Application: Download the standard forms directly from VA's Grant and Per Diem Program Web page at: http://www.va.gov/homeless/GPD.asp. The additional documents that must also be included with the application are listed below in the Content and Form of Application section of this NOFA. Questions should be referred to the GPD Program Office at (toll-free) 1 (877) 332-0334.

Content and Form of Application: The Department is seeking to refocus programs and resources to better serve the homeless veteran population. Therefore, applicants should note that a separate application for each housing model or service center will be required. Each will be scored separately.

Applicants may, when completing the application, combine or remove current project(s) resources to create a single project. There are some restrictions. Applicants whose grants included capital grants must continue to use the same project site unless they receive prior written approval from the National GPD Program Office; this includes applicants who received a 2013 rehabilitation grant. Applicants whose grants were per diem only may use a different site; however, the site/facility must be in the same catchment area and must provide a comparable or better living situation.

Applicants should review their relationships with VAMCs and group their projects by medical center. Review to see if you would like to remove or combine projects within that medical center. Next, complete the application(s) for the housing model(s) or service center for which you want to apply (See Examples 3-6).

Example 3: Applicant A has a service-intensive capital grant and a service-intensive per diem only grant facilitated by the same medical center. Per the NOFA, Applicant A cannot move the capital grant site, but may move the per diem only site. Applicant A could combine these projects at the capital grant site and submit one service-intensive application for the total number of beds.

Example 4: Applicant B provides both respite care and service-intensive housing at the same site and per diem is facilitated by the same medical center with a total of 30 beds between the two projects. Applicant B would submit two applications one for the respite care model and one for the service-intensive model designating specific number of beds and services for each not to exceed a total of 30 for the two models combined.

Example 5: Applicant C has a service-intensive capital grant and a service-intensive per diem only grant facilitated by different medical centers. Applicant C cannot combine these projects. Applicant C must submit one service-intensive application for each of the sites that fall in the different medical center catchment areas.

Example 6: Applicant D has a service-intensive grant and would now like to provide a service center. Applicant D cannot apply for the service center funding as Applicant D did not have operational service center funding under GPD.

If your agency is unclear on what application, or the number of applications, to submit, contact the GPD National Program Office for clarification prior to submission of any application to ensure it is submitting the correct format.

Applicants should ensure that they include all required documents in their application and carefully follow the format described below. Submission of an incorrect, incomplete, or incorrectly formatted application package will result in the application being rejected at threshold. Applicants should ensure that the items listed in the “Application Requirements” section of this NOFA are addressed in their application. Applicants should ensure the application is compiled in the order as outlined below and sections labeled accordingly.

Applicants are to complete the application in a normal business format on not more than fifty (50) single-spaced, typed, single sided pages, in Arial 12 font, and number the pages sequentially. The narrative must also be labeled with the same titles and order of this NOFA. Note: The Standard Forms will not count toward the page maximum. Applicants should simply binder clip the application; do not staple, spiral bind, or fasten the application. Do not include brochures or other information not requested.

The application consists of two parts. The first part will consist of Standard Forms and the second part of the application will be provided by applicants and consist of a supporting documentation and project narratives and tables/spreadsheets in a standard business format.

Applicants should ensure that they include all required documents in their application and carefully follow the format and provide the information requested and described below. Submission of an incorrect, incomplete, or incorrectly formatted application package will result in the application being rejected at the beginning of the process.

Application Documentation Required

1. Standard Forms:

First Submission: SF 424 Application for Federal Assistance.

Note: Second Submission: Conditional Selectees will be provided the following at a later date: SF 424A Budget Information, SF 424B Assurances and the GPD Per Diem Rate Request Worksheet and Instructions.

2. Eligibility to Receive VA Assistance:

Nonprofit Organizations must provide documentation of accounting system certification and evidence of private nonprofit status. This must be accomplished by the following:

(a) Providing certification on letterhead stationery from a Certified Public Accountant or Public Accountant that the organization has a functioning accounting system that is operated in accordance with generally accepted accounting principles, or that the organization has designated a qualified entity to maintain a functioning accounting system. If such an entity is used, then their name and address must be included in the certification letter; and

(b) Providing evidence of their status as a nonprofit organization by submitting a copy of their IRS ruling providing tax-exempt status under the IRS Code of 1986, as amended

3. Reasonable Assurances:

Copy on your agency's letterhead, the following statements (a-e) and then sign the letter.

(a) The applicant certifies that the following are true; the existing grant project of the applicant is being, and will continue to be, used principally to furnish Veterans the level of care for which VA awarded the applicant the original grant under the VA's Homeless Providers GPD Program; that not more than 25 percent of participants at any one time will be non-Veterans; and that such services will meet the requirements of 38 CFR part 61;

(b) The applicant will keep records and submit reports as VA may reasonably require, within the time frames required; and give VA, upon demand, access to the records upon which such information is based;

(c) The applicant agrees to comply with the applicable requirements of 38 CFR part 61 and other applicable laws and has demonstrated the capacity to do so;

(d) The applicant does not have an outstanding obligation to VA that is in arrears, and does not have an overdue or unsatisfactory response to an audit; and

(e) The applicant is not in default, by failing to meet requirements for any previous assistance from VA.

4. Documentation of being actively registered in the System for Award Management (SAM): Provide a printed copy of your agency's active registration in SAM to include the DUNS number which corresponds to the information provided on the Application for Federal assistance (SF424) and current CAGE code. Additionally, provide the complete legal business address that corresponds to the address registered with SAM to include the USPS five-digit zip code plus the four digit extension code.

5. State/Local Government Applicants: Applicants who are state or local governments must provide a copy of any comments or recommendations by approved State and (area wide) clearinghouses pursuant to Executive Order 12372.

6. Project Summary: On your agency's letterhead provide the following:

(a) The name of the VA facility providing the current per diem payment.

(b) Describe the number of beds your agency is requesting per diem for and the housing model to be provided at the VA facility identified in question 6(a).

Number of Beds: ___

Number of Visits (annually) if service center: ___

Housing Model: (i.e. Bridge Housing, Low Demand, Hospital to Home, Clinical Treatment, Service-Intensive Transitional Housing and Service Center).

(c) Is your agency submitting additional applications to provide other housing models at the facility referenced in question 6(a). (yes/no)

If yes, identify the model and the number of beds/visits to be provided under that model.

(d) Housing and services provided under this application will be located at:

Address:

City:

State:

Zip Code + 4 digit extension:

County the site is located in:

Additional Counties served by the project:

Congressional District:

(e) Under this application and model; describe how the facility participant living space will be configured? Include the square footage of the room or bay, the number of beds in that square footage, and if the beds will be bunked (i.e. Single Room Occupancy, 100 square feet, no bunk beds; Open Bay, 900 square feet, 12 beds, 4 sets of bunk beds; Apartment(s), 1500 square feet, 1,2, or 3 bedroom(s) no bunk beds).

(f) Describe any additional populations or types of housing being served/provided at this location? (i.e. children, women, permanent housing, contract care). If none so state.

(g) We are combining the following previous GPD project(s) __ under this application and model.

(h) Contact Information: Where correspondence can be sent to the Executive Director/President/CEO. Please provide the following:

Agency Name:

Physical Address of Administrative Office: (no P.O. Boxes)

City:

State:

Zip + 4 digit extension:

County:

Congressional District:

Telephone number:

Alternate Mailing Address: (If you would prefer regular mail be sent to a P.O. Box).

City:

State:

Zip:

(i) Name and title of Executive Director/President/CEO; phone, fax and email address:

(j) Name and title of another management level employee and title, phone, fax and email address, who can sign commitments for the agency:

(k) A complete listing of your agency's officers of the Board of Directors and their address, phone, fax, and email addresses.

7. Project Abstract: On not more than one page provide a brief abstract of the project to include: The project design, supportive services committed to the project, types of assistance provided, and any special program provisions.

8. Detailed Project Plan: This is the portion of the application that describes your program. VA Reviewers will focus on how the project plan addresses the areas of outreach, project plan, model specific questions, ability, need, and coordination in relation to your selected model. Please note there are some questions that only apply to specific models (Bridge, Clinical Treatment, Low Demand, Respite), Applicants applying for these models must include responses to these questions in their application.

VA expects applicants awarded under this NOFA will meet the VA performance metrics for the selected model. With those metrics in mind please include in your agency's responses to the following sections your agency strategies to meet or exceed VA's national metric targets.

(a) Outreach—

1. Outreach—describe in detail the process of how your agency will identify and serve your homeless Veteran population(s) in the selected model by responding to the following questions:

2. Outreach—describe your agency outreach plan and frequency for your selected Veteran population(s) living in places not ordinarily meant for human habitation (e.g. streets, parks abandon buildings, automobiles) and emergency shelters.

3. Outreach—identify where your organization will target its outreach efforts to identify appropriate Veterans for this program.

4. Outreach—Describe you involvement in the CoC's Coordinated Assessment/Entry efforts as it relates to your outreach plan.

(b) Project Plan—VA wishes to provide the most appropriate housing based on the needs of the individual Veteran.

1. Project Plan—Specifically list the supportive services, frequency of occurrence and who will provide them and how they will help Veteran participants achieve residential stability, increase skill levels and or income, and how they will increase Veterans' self-determination (i.e., case management, frequency of individual/groups, employment services). Use a table or spreadsheet for this section (See Example 7).

Example 7:

Supportive service | Frequency of offering (daily, weekly, etc.) | Job title & credential required for the individual providing services | This service supports the achievement of residential stability, increase skill and income, or self-determination
Case management | Weekly | Case Manager—LCSW | Residential stability.
Financial Management Group | Bi-Weekly | Life Skills Educator—BA/BS | Increased Skills and Income.

2. Project Plan—VA places emphasis on lowering barriers to admissions; describe the specific process and admission criteria for deciding which Veterans are appropriate for admission.

3. Project Plan—Address if you plan on serving a mixed gender population or individuals with children.

4. Project Plan—Provide a listing and explanation of any gender-specific services.

5. Project Plan—How will the safety security and privacy of participants be ensured?

6. Project Plan—How, when, and by whom will the progress of participants toward meeting their individual goals be monitored, evaluated and documented?

7. Project Plan—Provide your agency's Individual Service Plan (ISP) methodology and the core items to be addressed in the plan.

8. Project Plan—How permanent affordable housing will be identified in the ISP and made known to participants to plan for leaving the supportive housing?

9. Project Plan—Will your agency provide follow-up services? If yes, describe those services, how often they will occur, and the duration of the follow-up.

10. Project Plan—Describe how Veteran participants will have a voice and aid in operating and maintaining the housing (i.e., volunteer time, paid positions, community governance meetings, peer support).

11. Project Plan—Describe your agency's responsibilities, as well as, any sponsors, contractors' responsibilities in operating and maintaining the housing (i.e., sub-recipients).

12. Project Plan—Describe program policies regarding a clean and sober environment. Include in the description how participant relapse will be handled and how these policies will affect the admission and discharge criteria.

13. Project Plan—Provide and describe the type and implementation of the medication control system that will be used in this project (e.g., Medication Management, Medication Monitoring, or individual storage). For reference, applicants may review these requirements on pages 16 and 17 of their current GPD grant projects last annual inspection (VA Form 10-0361c).

14. Project Plan—Describe program polices regarding participant agreements, include any leases and sub-leases if used.

15. Project Plan—Describe program polices regarding extracurricular fees.

16. Project Plan—If co-located with other models, populations, or with other non-grant and per diem projects; how will differences in program rules and policies be handled (See example 8)?

Example 8:

Your agency has permanent housing, bridge housing, and low demand housing. These all serve different populations and require different levels of policy to properly function. How will this be accomplished?

17. Project Plan—Describe how in your chosen model you will provide assistance to Veterans who seek increased income or benefits.

18. Project Plan—Address how your agency will facilitate the provision of nutritional meals for the Veterans. Be sure to describe how Veterans with little or no income will be assisted.

19. Project Plan—VA places great emphasis on placing Veterans in the most appropriate housing situation as rapidly as possible. In this section, provide a timetable and the specific services to include follow-up that supports housing stabilization. Include evidence of coordination of transition services with which your agency expects to have for Veterans.

20. Project Plan—Describe the availability of or how you will facilitate transportation of the Veteran participants with and without income to appointments, employment, and supportive services.

(c) Model Specific Questions: Applicants should only respond to the following questions as they apply for the model selected in this application.

1. Bridge Housing Model—Describe how your bridge housing is coordinated with permanent housing resources as part of a Housing First plan for homeless Veterans

2. Clinical Treatment Model—Describe how you will ensure homeless Veterans will be offered available permanent housing resources prior to entering treatment resources.

3. Clinical Treatment Model—Describe how you will ensure permanent housing and employment/income improvements will occur and lead to successful outcomes.

4. Low Demand Model—How will your agency manage a safe environment if a Veteran returns to the project impaired?

5. Low Demand Model—Will your safe environment include a sober lounge or safe room?

6. Low Demand Model—What approaches will be used to keep the Veterans engaged in services?

7. Respite Care—Describe the medical evaluation process for identifying potential candidates for the program and the Staff involved in that process, the evaluation criteria, and the roles of each individual.

(d) Ability—This is where you describe your agency's experience in regard to your selected population.

1. Ability—Provide a table or spreadsheet of the staffing plan for this project. Do not include resumes.

Example 9:

Job title | Brief (1-2 sentence) description of responsibilities | Educational level | Hours per week allocated to GPD project | Amount of annual salary allocated to the GPD project ($)

2. Ability—Describe your agency's previous experience assessing and providing for the housing needs of homeless Veterans under your chosen model.

3. Ability—Describe your agency's previous experience assessing and providing supportive services to homeless Veterans under your chosen model.

4. Describe your agency's previous experience in assessing supportive service resources and entitlement benefits.

5. Describe your agency's previous experience with evaluating the progress of both individual participants and overall program effectiveness through using quality and performance data to make changes. Provide documentation of meeting past performance goals.

(e) Need—Describe through the use of a gap analysis the substantial unmet needs particularly among your targeted Veteran population and those needs of the general homeless population. How does this project meet a need for the community and fit with the community's strategy to end homeless in the community? Support your descriptions with empirical statistical documentation of need.

(f) Coordination—This portion of the application places emphasis on evidence of your agency's involvement in the homeless Veteran continuum.

1. Coordination—Provide documented evidence your agency is part of an ongoing community-wide planning process.

2. Coordination—How is your process designed to share information on available resources and reduce duplication among programs that serve homeless Veterans (i.e., letter of support from your local continuum of care)?

3. Coordination—How is your agency part of an ongoing community-wide planning process which is designed to share information on available resources and reduce duplication among programs that serve homeless Veterans?

4. Coordination—How has your agency coordinated GPD services with other programs offered in the Continuum(s) of Care (CoC) they currently serve?

5. Coordination—Provide documented evidence your agency consulted directly with the closest VAMC Director regarding coordination of services for project participants; and provide your plan to assure access to health care, case management, and other care services.

(g) Additional Application Requirements—

1. Memorandum of Understanding (MOU) Respite Care Documentation—A MOU between the local medical center and the applicant must be provided demonstrating the local medical center's detailed participation in the Hospital-to-Housing program. Included in this should be detailing of acceptance criteria for Veterans being referred from local facility emergency departments and inpatient wards, a detailing of how follow-up care with the medical center is organized, and a commitment to engaging enrolled Veterans in permanent housing as part of the program.

2. Awardees will be required to support their request for payments with adequate fiscal documentation as to project income and expenses. Awardee agencies that have a negotiated Indirect Cost Agreement (IDC) must provide a copy of the IDC with this application if they wish to charge indirect costs to the grant. Without this document only the de minimis rate would be allowed for indirect costs. All other costs will be considered only if they are direct costs.

Submission Dates and Times: An original signed, dated, completed, and application (plus two completed collated copies) and all required associated documents must be received in the GPD Program Office, VA Homeless Providers GPD Program Office, 10770 N. 46th Street Suite C-200, Tampa, FL 33617; by 4:00 p.m. Eastern Standard Time on Tuesday, April 4, 2017.

In the interest of fairness to all competing applicants, this deadline is firm as to date and hour, and VA will treat any application that is received after the deadline as ineligible for consideration. Applicants should take this firm deadline into account and make early submission of their material to avoid any risk of loss of eligibility as a result of unanticipated delays or other delivery-related problems. For applications physically delivered (e.g., in person, or via United States Postal Service, FedEx, United Parcel Service, or any other type of courier), the VA GPD Program Office staff will accept the application and date stamp it immediately at the time of arrival. This is the date and time that will determine if the deadline is met for those types of delivery.

Applications must be received by the application deadline. Applications must arrive as a complete package to include VA collaborative partner materials (see application requirements). Materials arriving separately will not be included in the application package for consideration and may result in the application being rejected or not funded.

DO NOT fax or email the application as applications received via these means will be ineligible for consideration.

Award Notice: Although subject to change, the GPD Program Office expects to announce grant awards in May 2017. The initial announcement will be made via news release which will be posted on VA's National GPD Program Web site at www.va.gov/homeless/gpd.asp. Following the initial announcement, the GPD Office will mail notification letters to the grant recipients. Applicants who are not selected will be mailed a declination letter within two weeks of the initial announcement. All notifications will indicate the applicant's status in regard to the Office of Management and Budget class exception to the real property provisions of Title 2 of the Code of Federal Regulations section 200.311(c) to FY 2017 NOFA awardees and non-awardees.

For capital grantees that choose not to reapply in response to this 2017 NOFA or who apply and do not meet the threshold requirements for scoring as outlined in [the accompanying Federal Register Notice regarding the plan to terminate certain grant agreements] and regulation, VA will initiate the recapture requirements of 38 CFR 61.67, and if applicable, the real property disposition requirements of 2 CFR 200.311(c).

Administrative and National Policy: It is important to be aware that VA places great emphasis on responsibility and accountability. VA has procedures in place to monitor services provided to homeless Veterans and outcomes associated with the services provided in grant and per diem-funded programs. Applicants should be aware of the following:

All awardees that are selected in response to this NOFA must meet the requirements of the current edition of the Life Safety Code of the National Fire Protection Association as it relates to their specific facility. Applicants should note that all facilities are to be protected throughout by an approved automatic sprinkler system unless a facility is specifically exempted under the Life Safety Code. Applicants should consider this when submitting their grant applications, as no additional funds will be made available for capital improvements under this NOFA.

Each program receiving funding will have a liaison appointed from a nearby VA medical facility to provide oversight and monitor services provided to homeless Veterans in the program.

Monitoring will include, at a minimum, a quarterly review of each per diem program's progress toward meeting VA's performance metrics, helping Veterans attain housing stability, adequate income support, and self-sufficiency as identified in each per diem application. Monitoring will also include a review of the agency's income and expenses as they relate to this project to ensure payment is accurate.

Each funded program will participate in VA's national program monitoring and evaluation as these procedures will be used to determine successful accomplishment of housing, employment, and self-sufficiency outcomes for each per diem-funded program.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on December 19, 2016, for publication.

Dated: December 19, 2016.
Jeffrey Martin,
Office Program Manager, Office of Regulation Policy & Management, Office of the SecretaryDepartment of Veterans Affairs.

[FR Doc. 2016-30957 Filed 12-22-16; 8:45 am]

BILLING CODE 8320-01-P